DEPARTMENT OF HOMELAND SECURITY

Federal Emergency Management Agency

44 CFR Part 67

[Docket ID FEMA-2016-0002]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The Federal Emergency Management Agency (FEMA) makes the final determinations listed below for the modified BFEs for each community listed. These modified elevations have been published in newspapers of local circulation and ninety (90) days have elapsed since that publication. The Deputy Associate Administrator for Insurance and Mitigation has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community.

The BFEs and modified BFEs are made final in the communities listed below. Elevations at selected locations in each community are shown.

National Environmental Policy Act. FEMA has reviewed this final rule for purposes of the National Environmental Policy Act of 1969 (42 U.S.C. 4321 et seq.) and has determined that this action will not have a significant effect on the human environment. This action is covered by categorical exclusions A4 and A7 identified in FEMA Instruction 108-1-1 and Department of Homeland Security (DHS) Instruction 023-01-001-01, Appendix A.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Date: December 21, 2016.
Roy E. Wright,
Deputy Associate Administrator for Insurance and Mitigation, Department of Homeland Security,Federal Emergency Management Agency.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + elevation in feet (NAVD) # depth in feet above ground ‸ elevation in meters (MSL) modified | Communities affected
Otsego County, New York (All Jurisdictions)
Docket No.: FEMA-B-1098
Charlotte Creek | At the confluence with the Susquehanna River Approximately 1,000 feet upstream of the confluence with the Susquehanna River | +1,102 +1,102 | Town of Oneonta.
Glenwood Creek | At the confluence with the Susquehanna River Approximately 40 feet downstream of I-88 | +1,085 +1,085 | City of Oneonta, Town of Oneonta.
Mill Race | At the confluence with the Susquehanna River Approximately 450 feet upstream of River Street | +1,078 +1,078 | City of Oneonta.
Otsdawa Creek | At the confluence with the Susquehanna River Approximately 870 feet upstream of Main Street | +1,056 +1,056 | Town of Otego, Village of Otego.
Otsego Lake | Entire shoreline | +1,193 | Town of Middlefield, Town of Otsego, Town of Springfield.
Susquehanna River | Approximately 1,325 feet downstream of State Highway 8 Approximately 3,840 feet upstream of State Highway 28 | +987 +1,123 | Town of Milford, City of Oneonta, Town of Oneonta, Town of Otego, Town of Unadilla, Village of Otego, Village of Unadilla.
Unadilla River | At the confluence with the Susquehanna River Approximately 1.7 mile upstream of State Highway 80 | +987 +1,101 | Town of Butternuts, Town of Morris, Town of Pittsfield, Town of Unadilla, Village of Unadilla.
* National Geodetic Vertical Datum.
+ North American Vertical Datum.
# Depth in feet above ground.
‸ Mean Sea Level, rounded to the nearest 0.1 meter.
ADDRESSES
City of Oneonta
Maps are available for inspection at 258 Main Street, Oneonta City Hall, Oneonta, NY 13820.
Town of Butternuts
Maps are available for inspection at 3 Vale Street, Butternuts Town Hall, Gilbertsville, NY 13776.
Town of Middlefield
Maps are available for inspection at 2209 County Highway 33, Middlefield Town Hall, Cooperstown, NY 13326.
Town of Milford
Maps are available for inspection at 2859 State Route 28, Milford Town Hall, Milford, NY 13834.
Town of Morris
Maps are available for inspection at 93 Main Street, Morris Town Hall, Morris, NY 13808.
Town of Oneonta
Maps are available for inspection at 3966 State Highway 12, Oneonta Town Hall, West Oneonta, NY 13861.
Town of Otego
Maps are available for inspection at 3526 State Highway 7, Otego Town Hall, Otego, NY 13825.
Town of Otsego
Maps are available for inspection at 811 County Highway 26, Otsego Town Hall, Fly Creek, NY 13337.
Town of Pittsfield
Maps are available for inspection at 366 State Highway 80, Pittsfield Town Hall, New Berlin, NY 13411.
Town of Springfield
Maps are available for inspection at 8104 State Highway 80, Springfield Town Hall, Springfield Center, NY 13468.
Town of Unadilla
Maps are available for inspection at 1648 State Highway 7, Unadilla Town Hall, Unadilla, NY 13849.
Village of Otego
Maps are available for inspection at 4 River Street, Otego Village Hall, Otego, NY 13825.
Village of Unadilla
Maps are available for inspection at 193 Main Street, Unadilla Village Hall, Unadilla, NY 13849.

[FR Doc. 2017-05453 Filed 3-17-17; 8:45 am]

BILLING CODE 9110-12-P